DEPARTMENT OF HOUSING AND URBAN DEVELOPMENT

24 CFR Parts 30 and 3400

[Docket No. FR-5271-N-02]

RIN 2502-A170

SAFE Mortgage Licensing Act: HUD Responsibilities Under the SAFE Act; Extension of Public Comment Deadline

AGENCY: Department of Housing and Urban Development, HUD.

ACTION: Proposed rule.

SUMMARY: This notice advises that HUD is extending the public comment deadline to March 5, 2010, of its proposed rule addressing HUD's responsibilities under the Secure and Fair Enforcement Mortgage Licensing Act of 2008 (SAFE Act), which was published on December 15, 2009. The public comment deadline was originally scheduled to close on February 16, 2010.

DATES: Comment due date: March 5, 2010.

ADDRESSES: Interested persons are invited to submit comments regarding this rule to the Regulations Division, Office of General Counsel, Department of Housing and Urban Development, 451 7th Street, SW., Room 10276, Washington, DC 20410-0500. Communications must refer to the above docket number and title. There are two methods for submitting public comments. All submissions must refer to the above docket number and title.

1. Submission of Comments by Mail. Comments may be submitted by mail to the Regulations Division, Office of General Counsel, Department of Housing and Urban Development, 451 7th Street, SW., Room 10276, Washington, DC 20410-0500.

2. Electronic Submission of Comments. Interested persons may submit comments electronically through the Federal eRulemaking Portal at http://www.regulations.gov. HUD strongly encourages commenters to submit comments electronically. Electronic submission of comments allows the commenter maximum time to prepare and submit a comment, ensures timely receipt by HUD, and enables HUD to make them immediately available to the public. Comments submitted electronically through the http://www.regulations.gov Web site can be viewed by other commenters and interested members of the public. Commenters should follow the instructions provided on that site to submit comments electronically.

Note: To receive consideration as public comments, comments must be submitted through one of the two methods specified above. Again, all submissions must refer to the docket number and title of the rule.

No Facsimile Comments. Facsimile (FAX) comments are not acceptable.

Public Inspection of Public Comments. All properly submitted comments and communications submitted to HUD will be available for public inspection and copying between 8 a.m. and 5 p.m. weekdays at the above address. Due to security measures at the HUD Headquarters building, an advance appointment to review the public comments must be scheduled by calling the Regulations Division at 202-708-3055 (this is not a toll-free number). Individuals with speech or hearing impairments may access this number through TTY by calling the toll-free Federal Information Relay Service at 800-877-8339. Copies of all comments submitted are available for inspection and downloading at http://www.regulations.gov.

FOR FURTHER INFORMATION CONTACT: William W. Matchneer III, Associate Deputy Assistant Secretary for Regulatory Affairs and Manufactured Housing, Department of Housing and Urban Development, 451 7th Street, SW., Room 9164, Washington, DC 20410; telephone number 202-708-6401 (this is not a toll-free number). Persons with hearing or speech impairments may access this number through TTY by calling the toll-free Federal Information Relay Service at 800-877-8339.

SUPPLEMENTARY INFORMATION: HUD is extending the public comment period on its SAFE Act proposed rule, published on December 15, 2009 (74 FR 66548) to March 5, 2010. The public comment period was originally scheduled to close on February 16, 2010.

Due to the severe inclement weather not only in Washington, DC but in the mid-Atlantic states that resulted in the closing of the federal government as well as many local governments and private and public businesses and organizations, HUD determined that an extension of the public comment period is appropriate to ensure interested parties have the opportunity to comment on this proposed rule.

Dated: February 12, 2010.
Camille Acevedo,
Associate General Counsel for Legislation and Regulations.

[FR Doc. 2010-3087 Filed 2-16-10; 8:45 am]

BILLING CODE 4210-67-P